DEPARTMENT OF DEFENSE

Department of the Army, Corps of Engineers

Modification of Permit Application and Intent for Additional Public Scoping for an Environmental Impact Statement for the Port of Gulfport Expansion Project, Harrison County, Mississippi (Department of the Army Permit Number SAM-2009-1768-DMY)

AGENCY: U.S. Army Corps of Engineers, DoD.

ACTION: Notice of Intent.

SUMMARY: The U.S. Army Corps of Engineers, Mobile District (USACE) announces a modification to a project proposed by the Mississippi State Port Authority (MSPA) for which an Environmental Impact Statement (EIS) is being prepared. The Mississippi Development Authority (MDA) and the National Marine Fisheries Service (NMFS) are cooperating agencies in the preparation of the EIS. The proposed port expansion project involves impacting up to 200 acres of open-water bottom in the Mississippi Sound from the construction of wharfs, bulkheads, terminal facilities, container storage areas, intermodal container transfer facilities, dredging and dredged material disposal and infrastructure, and construction of a breakwater of approximately 4,000 linear feet. The recently received permit application modification proposes additional dredging and dredged material placement to modify the Gulfport Harbor Federal Navigation Channel (FNC) for a length of approximately 20 miles from the current federally authorized dimensions. The federally authorized turning basin would also be modified, as would the proposed turning basin expansion. The proposed project will include modifications to the authorized FNC and other navigation features to support a navigable channel depth of up to 47 feet in the Mississippi Sound and 49 feet in the Bar Channel plus advance maintenance and allowable over depth requirements. Modification to navigation features adjacent to the port facilities include deepening the existing Federal turning basin area and port berthing areas, a turning basin expansion, and new berthing areas. Widening the channel may be requested based on results of planned ship simulations. Final channel design and associated environmental impacts will be addressed during the permitting and EIS process. The EIS will evaluate the effects of construction and long term effects of the proposed expansion and channel modification, including placement of new work and maintenance dredged material in beneficial use sites or other placement areas, such as open water and ocean dredged material disposal sites. Alternatives to the proposed action will be evaluated in the EIS, which will assist the USACE in deciding whether to issue a Department of the Army permit.

The purpose of this Notice of Intent is to inform and educate the public of changes to the proposed project; invite public participation in the EIS process; announce the plans for an additional public scoping meeting; solicit public comments for consideration in establishing the scope and content of the EIS; and provide notice of potential impacts to open-water benthic and other habitats potentially impacted by the project.

DATES: A scoping meeting will be held on May 21, 2013. Comments will be accepted in written format at the scoping meeting or via mail/email until June 17, 2013. To ensure consideration, comments should be post-marked by this date. Late comments will be considered to the extent practicable.

ADDRESSES: The scoping meeting will be held at the Courtyard Marriott Gulfport Beachfront Hotel, 1600 East Beach Boulevard, Gulfport, MS. Written comments regarding the proposed EIS scope or permit application modifications should be addressed to Mr. Damon M. Young, P.G. USACE, Mobile District, Post Office Box 2288, Mobile, Alabama 36628. Individuals who would like to electronically provide comments should contact Mr. Young by electronic mail: port.gulfporteis@usace.army.mil.

FOR FURTHER INFORMATION CONTACT: For information about this project, to be included on the mailing list for future updates and meeting announcements, or to receive a copy of the DRAFT EIS when it is issued, contact Damon M. Young, P.G., at the USACE at (251) 694-3781 or the address provided above. Mr. Ewing Milam, at the MDA can also be contacted for additional information at P.O. Box 849, Jackson, Mississippi 39205-0849, telephone (601)-359-2157 or by electronic mail at emilam@mississippi.org.

SUPPLEMENTARY INFORMATION:

1. Background: The Gulfport Harbor Navigation Project was adopted by the Rivers and Harbors Act approved on July 3, 1930 (House Document Number 692, 69th Congress, 2nd session) and the Rivers and Harbors Act approved on June 30, 1948 (House Document Number 112, 81st Congress, 1st session). Construction of the existing Gulfport Harbor commenced in 1932 and was completed in 1950. The FNC is approximately 20 miles in length, including 11 miles of channel in the Mississippi Sound (Sound Channel), 2 miles of Bar Channel, and 7 miles of channel in the Gulf of Mexico (Gulf Channel). Authorization to conduct improvements to the harbor was issued in the Fiscal Year 1985 Supplemental Appropriations Act (Pub. L. 99-88). The Water Resources Development Acts (WRDAs) 1986 and 1988 further modified the previous authorization to cover widening and deepening and thin-layer disposal, respectively. The authorized deepening was completed in 1993. In 2012 the channel was widened to the federally authorized dimensions. The navigation channel is currently federally authorized at 36 feet deep and 300 feet wide in the Sound Channel and 38 feet deep and 400 feet wide in the Bar and Gulf Channels. The Port's North Harbor (Inner Harbor) is authorized at a depth of 32 feet and the South Harbor (Outer Harbor) and Gulfport Turning Basin are authorized at a depth of 36 feet. A Department of the Army Permit MS96-02828-U was issued in 1998 authorizing an 84-acre expansion to fill the West Pier to construct new tenant terminals and infrastructure. Phases I and II of that project are complete and Phase III is currently under construction.

2. Location: The proposed Port of Gulfport Expansion Project is located in the City of Gulfport, Harrison County, Mississippi. The proposed project is approximately 80 miles west of Mobile, Alabama, and 80 miles east of New Orleans, Louisiana. The Port encompasses approximately 184 acres and is located within 5 miles of the Gulf Intracoastal Waterway (GIWW) and approximately 7 miles south of Interstate Highway 10. The FNC runs from the Port, between Cat and West Ship islands (in Ship Island Pass) into the Gulf of Mexico and is approximately 20 miles long.

3. Work: The proposed project involves filling of up to 200 acres of open-water bottom in the Mississippi Sound, the construction of wharfs, bulkheads, terminal facilities, container storage areas, intermodal container transfer facilities, expansion of the existing turning basin, dredging and dredged material disposal and infrastructure, and construction of a breakwater of approximately 4,000 linear feet. The proposed expanded port facility will be elevated 25 feet above sea level to provide protection against future tropical storm surge events. The permit application modification for the proposed project includes deepening and possible widening of the existing FNC from the federally authorized dimensions. The federally authorized turning basin would also be modified, as would the proposed adjacent turning basin expansion. A Department of the Army permit is required for the proposed project, pursuant to Section 404 of the Clean Water Act (33 U.S.C. 1251), Section 10 of the Rivers and Harbors Act (33 U.S.C. 403), and Section 103 of the Marine Protection, Research, and Sanctuaries Act (33 U.S.C. 1401-1445, 16 U.S.C. 1431 et seq., also 33 U.S.C. 1271).

An EIS is being prepared pursuant to the National Environmental Policy Act (NEPA) of 1969, as amended (42 U.S.C. 4321 et seq.), and the Council on Environmental Quality NEPA regulations (40 CFR Parts 1500-1508) to assess the potential environmental impacts associated with the construction, operation, and maintenance of the proposed project as submitted and modified by the MSPA.

4. Need: According to the MSPA, this project will contribute to the long-term economic development of Mississippi and the Gulf Coast region by expanding the Port footprint and facilities to increase cargo throughput, provide additional employment opportunities, and to increase the economic benefits produced by the Port. This project is needed to expand the Port's current footprint, thus providing an opportunity to increase the Port's capacity for moving cargo and growing. Specific alternatives are being developed as part of the EIS process and feedback provided during the additional scoping meeting will be taken into consideration.

5. Affected Environment: Environmental characteristics that may be affected by the proposed project include geological, chemical, biological, physical, socioeconomic, and commercial and recreational activities. Offshore, the navigation channel extends 20 miles south into the Gulf of Mexico, passing close to the western end of Ship Island. On-shore, the regional environment is characterized as Coastal Lowlands, and the shore area, where not developed, consists typically of gently undulating swampy plains. The beach area is man-made and bordered by constructed seawalls. The existing Port, as part of the man-made environment of Gulfport, is constructed on fill material. The Gulfport area is well developed. Beyond the seawalls are extensive commercial and residential developments. The nearshore and offshore area is known for its valuable resources as a productive fishery and is also utilized extensively for commercial and recreational shipping and boating.

6. Applicable Environmental Laws and Policies: The proposed project could result in both beneficial and negative environmental impacts. These impacts will be evaluated in the EIS in accordance with applicable environmental laws and policies, which include NEPA; WRDA; Endangered Species Act; Clean Water Act; Clean Air Act; U.S. Fish and Wildlife Coordination Act; National Historic Preservation Act; Coastal Barrier Resources Act; Magnuson-Stevens Fishery Conservation and Management Act; Coastal Zone Management Act; Marine, Protection, Research, and Sanctuaries Act; Rivers and Harbors Act; National Marine Sanctuaries Act; Fishery Conservation Act; Marine Mammal Protection Act; Executive Order 12898, Environmental Justice in Minority Populations and Low-Income Populations; Executive Order 13045, Protection of Children from Environmental Health Risks and Safety Risk (among other Executive Orders); and Ports and Waterways Safety Act.

7. Preliminary Identification of Environmental Issues: The following list of environmental issues has been tentatively identified for analysis in the EIS. This list was developed during preliminary internal scoping, through previous public scoping efforts, and from information from similar projects, and is neither intended to be all inclusive nor a predetermined set of potential impacts. It is presented to facilitate public comment on the planned scope of the EIS. Additions to or deletions may occur as a result of the public scoping process. Preliminary identified environmental issues include but are not limited to the loss of aquatic resources (impact to potential submerged and shoreline aquatic habitat); water quality; salinity and flows; sediment transport and currents; threatened and endangered species (including critical habitat and essential fish and shellfish habitat); air quality; traffic; socioeconomics; and impacts to low income and minority populations. The evaluation will consider alternatives, secondary and cumulative impacts, and mitigation.

8. Scoping meeting: A public scoping meeting was held in spring of 2011 in Gulfport, Mississippi to solicit comments from the public and agencies in regards to the original permit application and proposed project. To ensure that all of the issues related to this proposed project and permit action modification are addressed, the USACE will conduct an additional public scoping meeting in which agencies, organizations, and members of the general public are invited to present comments or suggestions with regard to the range of actions, alternatives, and potential impacts to be considered in the EIS, given the proposed project changes. The scoping meeting will be held at the Courtyard Marriott Gulfport Beachfront Hotel, 1600 East Beach Boulevard, Gulfport, MS, on May 21, 2013. The scoping meeting will begin with an informal open house from 5:30 p.m. to 6:30 p.m. followed by a formal presentation of the proposed permit action and modifications. Comments will be accepted following the formal presentation until 8:00 p.m. Displays and other forms of information about the proposed action and modifications will be available, and the USACE, the MSPA and the MDA personnel will be present at the informal session to discuss the proposed project and modifications and the EIS Process. The USACE invites comments on the proposed scope and content of the EIS from all interested parties. Verbal or written comments will be taken at the scoping meeting following the formal presentation until 8:00 p.m. A time limit will be imposed on verbal comments, as necessary. If hearing impaired or language translation services are needed, please contact Damon M. Young, P.G., at the USACE at (251) 694-3781, at port.gulfporteis@usace.army.mil, or at the street address provided above.

9. Draft EIS: It is anticipated that a Draft EIS will be made available for public review in early calendar year 2014. A public hearing will be held during the public comment period for the Draft EIS.

Approved By:
Craig J. Litteken,
Chief, Regulatory Division.

[FR Doc. 2013-11038 Filed 5-8-13; 8:45 am]

BILLING CODE 3720-58-P